SECURITIES AND EXCHANGE COMMISSION

[Release No. 34-62853; File No. 4-610]

State of the Municipal Securities Market Field Hearings

AGENCY: Securities and Exchange Commission.

ACTION: Notice of field hearings.

SUMMARY: On May 7, 2010, the Chairman of the Securities and Exchange Commission Mary L. Schapiro, announced that Commissioner Elisse B. Walter would lead an effort to gather facts, opinions and analyses about the municipal securities market by holding a series of field hearings across the country. A broad array of municipal market participants representing diverse viewpoints will be invited to participate in the field hearings by sharing their perspectives on important topics relating to the municipal securities market.

DATES: The initial field hearing will be held on September 21, 2010 in San Francisco, California and will be open to the public. The field hearing will begin at 9 a.m. Over the next several months, the Commission will hold four additional public field hearings in cities across the country. Information regarding the dates and times of future field hearings will be available on the Commission's Web site at http://www.sec.gov.

ADDRESSES: The September 21, 2010 field hearing will be held at the Port of San Francisco, Pier 1, The Embarcadero, San Francisco, CA 94111. Information regarding the locations of future field hearings will be available on the Commission's Web site at http://www.sec.gov. Comments relating to the state of the municipal securities market field hearings may be filed electronically by e-mail to munifieldhearings@sec.gov or through the comment form available at: http://www.sec.gov/rules/other.shtml. Transcripts of the field hearings and all submitted comments will also be available on the Commission's Web site at http://www.sec.gov. All comments received will be posted without change; we do not edit personal identifying information from submissions. You should submit only information that you wish to make available publicly.

FOR FURTHER INFORMATION CONTACT: Alicia F. Goldin, Office of Commissioner Elisse B. Walter, at (202) 551-5618, Lesli Sheppard, Office of Commissioner Elisse B. Walter, at (202) 551-2806 or Kayla Gillan, Office of the Chairman, at (202) 551-2600.

By the Commission.
Dated: September 7, 2010.
Elizabeth M. Murphy,
Secretary.

[FR Doc. 2010-22628 Filed 9-9-10; 8:45 am]

BILLING CODE 8010-01-P